PEACE CORPS

[OMB Control Number 0420-0006]

Information Collection Requests Under OMB Review

AGENCY: Peace Corps.

ACTION: Notice of public use form review request to the Office of Management and Budget (OMB Control Number 0420-0006).

SUMMARY: Pursuant to the Paperwork Reduction Act of 1981 (44 USC, Chapter 35), the Peace Corps has submitted to the Office of Management and Budget a request for approval of information collections, OMB Control Number 0420-0006, the Peace Corps Volunteer Reference Form—PC 1532. The initial Federal Register notice was published on January 23, 2002, Volume 67, No. 15, P. 3242 for 60 days. Also available at www.gpo.gov access, Wais.GPO. No comments, inquiries, or responses to the notice were received, other forms of information technology. A copy of the information collection may be obtained from Mr. Jeffrey Herrell, Peace Corps, Officer of Volunteer and Recruitment Services, 1111 20th Street, NW, Room 6152, Washington, DC 20526. Mr. Herrell can be contacted by telephone at 202-692-1869 or 800-424-8580 ext 1869. Comments on the form should also be addressed to the attention of Mr. Herrell. For general information about the Peace Corps, visit our web site at www.peacecorps.gov. The Peace Corps invites comment on whether the proposed collection of information is necessary for proper performance of the functions of the Peace Corps, including whether their information will have practical use; the accuracy of the agency's estimate of the burden of the proposed collections information, including the validity of the methodology and assumptions used; way to enhance the quality, utility and the clarity of the information to be collected; and, ways to minimize the burden of the collection of information on those who respond, including through the use of automated collection techniques, when appropriate, and other forms of information technology. Comments on this form should be addressed to the attention of the Peace Corps Desk Officer, Office of Management and Budget, NEOB Washington, DC 20503. Comments should be received on or before June 3, 2002.

Information Collection Abstract

Title: Peace Corps Volunteer Reference Form PC 1532

Need for and Use of This Information: The Peach Corps Volunteer Reference Form is used to gather information about individuals who have submitted applications, are basically qualified, and are nominees for volunteer service. The form is an integral part of the screening and selection process conducted by the Office of Volunteer Recruitment and Selection. Such information as past criminal records, severe mental problems, poor interpersonal relationships or emotional immaturity is used by the agency in their consideration of applicants. The purpose of this information collection is to assist in processing applicants for volunteer service in determining suitability of applicants. There is no other means of obtaining the required data. This program also fulfills the first goal of the Peace Corps as required by Congressional legislation.

Respondents: Returned Peace Corps volunteers.

Respondent's Obligation to Reply: Individuals who voluntarily agree to serve as a references for Peace corps applicants.

Burden on the Public:

a. Annual reporting burden: 13,692 hours.

b. Annual record keeping burden: 0 hours.

c. Estimated average burden per response: 30 minutes.

d. Frequency of response: one time.

e. Estimated number of likely respondents: 27,384.

f. Estimated cost to respondents: $8.78.

At this time, responses will be returned by mail.

This notice is issued in Washington, DC on April 28, 2002.
Judy Van Rest,
Associate Director for Management.

[FR Doc. 02-10968 Filed 5-2-02; 8:45 am]

BILLING CODE 6051-01-M